DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 14, 2008.

Interested persons are invited to submit written comments regarding the subject matter of the investigations to the Director, Division of Trade Adjustment Assistance, at the address shown below, not later than October 14, 2008.

The petitions filed in this case are available for inspection at the Office of the Director, Division of Trade Adjustment Assistance, Employment and Training Administration, U.S. Department of Labor, Room C-5311, 200 Constitution Avenue, NW., Washington, DC 20210.

Signed at Washington, DC, this 24th day of September 2008.
Erin Fitzgerald,
Director, Division of Trade Adjustment Assistance.

Appendix
[TAA petitions instituted between 9/15/08 and 9/19/08]
TA-W | Subject firm (petitioners) | Location | Date of institution | Date of petition
64041 | A.G. Simpson (State) | Shreveport, LA | 09/15/08 | 09/12/08
64042 | Grupo Antolin (State) | Shreveport, LA | 09/15/08 | 09/12/08
64043 | Intier (Innertech-Shreveport) (State) | Shreveport, LA | 09/15/08 | 09/12/08
64044 | Kace/Dana (Kace Logistics) (State) | Shreveport, LA | 09/15/08 | 09/12/08
64045 | Kace/Siegel Roberts (State) | Shreveport, LA | 09/15/08 | 09/12/08
64046 | Guilford Mills (Wkrs) | Kenansville, NC | 09/15/08 | 09/04/08
64047 | Shreveport Logistics (State) | Shreveport, LA | 09/15/08 | 09/12/08
64048 | Rieter Automotive Systems (State) | Shreveport, LA | 09/15/08 | 09/12/08
64049 | Meridian Automotive Systems (State) | Shreveport, LA | 09/15/08 | 09/12/08
64050 | Ventra St. Louis LLC (Comp) | Pacific, MO | 09/15/08 | 09/12/08
64051 | Pacific Consolidated Industries (Comp) | Riverside, CA | 09/15/08 | 09/03/08
64052 | Arkansas Extrusions (State) | Hot Springs, AR | 09/15/08 | 09/12/08
64053 | Oakley (State) | Shreveport, LA | 09/15/08 | 09/12/08
64054 | Modas LLC (State) | Shreveport, LA | 09/15/08 | 09/12/08
64055 | Tango Transport, Inc. (State) | Shreveport, LA | 09/16/08 | 08/01/08
64056 | Remy International, Inc. Co. (Comp) | Winchester, VA | 09/16/08 | 09/11/08
64057 | Alba Health LLC (State) | Rockwood, TN | 09/16/08 | 09/02/08
64058 | Meridian Automotive Systems (Wkrs) | Ionia, MI | 09/16/08 | 09/08/08
64059 | Johnson Controls (State) | Shreveport, LA | 09/16/08 | 08/01/08
64060 | Ai-Shreveport LLC (State) | Shreveport, LA | 09/16/08 | 08/29/08
64061 | R R Donnelley (Wkrs) | Monroe, WI | 09/16/08 | 09/05/08
64062 | Valspar Corporation (Wkrs) | Jackson, TN | 09/16/08 | 08/29/08
64063 | XP Power (State) | Anaheim, CA | 09/16/08 | 09/15/08
64064 | Bumper Works, Inc. (UAW) | Danville, IL | 09/17/08 | 09/15/08
64065 | Aeiomed, Inc. (State) | Minneapolis, MN | 09/17/08 | 09/16/08
64066 | Mid South Electrical (Wkrs) | East Gadsden, AL | 09/17/08 | 08/28/08
64067 | Hillerich and Bradsby Company (CA) | Ontario, CA | 09/17/08 | 09/16/08
64068 | Memorex Products, Inc. (State) | Cerritos, CA | 09/17/08 | 09/16/08
64069 | Norwalk International Wood Products LLC (Comp) | Byrdstown, TN | 09/17/08 | 09/15/08
64070 | Perfection Mold and Machine Company (Comp) | Akron, OH | 09/17/08 | 09/16/08
64071 | J P Morgan Chase Bank NA (Wkrs) | Lexington, KY | 09/17/08 | 08/30/08
64072 | Bowling Green Metalforming (Comp) | Bowling Green, KY | 09/18/08 | 09/12/08
64073 | Broan Nutone Storage Solutions (Comp) | Cleburne, TX | 09/18/08 | 09/01/08
64074 | First Insight Corporation (Comp) | Hillsboro, OR | 09/18/08 | 09/17/08
64075 | Lexis Nexis/Global Data Fabrication (Wkrs) | Miamisburg, OH | 09/18/08 | 09/09/08
64076 | Pearson Education (Wkrs) | York, PA | 09/18/08 | 09/09/08
64077 | Trelleborg YSH, Inc. (Comp) | Peru, IN | 09/18/08 | 09/17/08
64078 | Tyco Elecontronics, Global Application Tooling (Comp) | Harrisburg, PA | 09/19/08 | 09/18/08
64079 | SKF Automotive Division (Comp) | Glasgow, KY | 09/19/08 | 09/18/08
64080 | Prevue Employment Service/Wetzel Molded Plastics (Wkrs) | Warren, OH | 09/19/08 | 09/12/08
64081 | Emerson Appliance (Wkrs) | Frankfort, IN | 09/19/08 | 09/15/08
64082 | Precision Manufacturing and Assembly (State) | Dayton, OH | 09/19/08 | 09/18/08
64083 | American Axle and Manufacturing (Wkrs) | Detroit, MI | 09/19/08 | 09/16/08
64084 | Adobe Air, Inc. (Wkrs) | Phoenix, AZ | 09/19/08 | 09/12/08
64085 | Whirlpool Corporation (State) | Fort Smith, AR | 09/19/08 | 09/18/08

[FR Doc. E8-23296 Filed 10-2-08; 8:45 am]

BILLING CODE 4510-FN-P